FEDERAL COMMUNICATIONS COMMISSION

47 CFR Part 90

[ET Docket No. 19-138, FCC 20-164; FR ID 53921]

Use of the 5.850-5.925 GHz Band

AGENCY: Federal Communications Commission.

ACTION: Final rule; announcement of effective date.

SUMMARY: In this document, the Commission announces that the Office of Management and Budget (OMB) has approved, for a period of three years, the new information collection associated with the Commission's Use of the 5.850-5.9259 GHz Band, First Report, Further Notice of Proposed Rulemaking, and Order of Proposed Modification, FCC 20-164. This document is consistent with the Order, which stated that the Commission would publish a document in the Federal Register announcing the effective date of the rule.

DATES: The amendment to § 90.372 published at 86 FR 23281, May 3, 2021, is effective October 25, 2021.

FOR FURTHER INFORMATION CONTACT: Jamie Coleman, Office of Engineering and Technology Bureau, at (202) 418-0530, or email: Jamie.Coleman@fcc.gov.

For additional information concerning the Paperwork Reduction Act information collection requirements, contact Nicole Ongele at (202) 418-2991 or nicole.ongele@fcc.gov.

SUPPLEMENTARY INFORMATION: This document announces that, on October 4, 2021, OMB approved, for a period of three years, the new information collection requirement relating to the DSRCS Notification Requirement rule contained in the Commission's Use of the 5.850-5.9259 GHz Band, First Report and Order, Further Notice of Proposed Rulemaking, and Order of Proposed Modification, FCC 20-164 (86 FR 23281, May 3, 2021). The OMB Control Number is 3060-1293. If you have any comments on the burden estimates listed below, or how the Commission can improve the collections and reduce any burdens caused thereby, please contact Nicole Ongele, Federal Communications Commission, 45 L Street SW, Washington, DC 20554. Please include the OMB Control Number, 3060-1293, in your correspondence. The Commission will also accept your comments via email at PRA@fcc.gov.

To request materials in accessible formats for people with disabilities (Braille, large print, electronic files, audio format), send an email to fcc504@fcc.gov or call the Consumer and Governmental Affairs Bureau at (202) 418-0530 (voice), (202) 418-0432 (TTY).

Synopsis

As required by the Paperwork Reduction Act of 1995 (44 U.S.C. 3507), the FCC is notifying the public that it received final OMB approval on October 4, 2021, for the information collection requirement contained in the Commission's new rule in 47 CFR part 90.

Under 5 CFR part 1320, an agency may not conduct or sponsor a collection of information unless it displays a current, valid OMB Control Number.

No person shall be subject to any penalty for failing to comply with a collection of information subject to the Paperwork Reduction Act that does not display a current, valid OMB Control Number. The OMB Control Number is 3060-1293.

The foregoing is required by the Paperwork Reduction Act of 1995, Public Law 10413, October 1, 1995, and 44 U.S.C. 3507.

The total annual reporting burdens and costs for the respondents are as follows:

OMB Control Number: 3060-1293.

OMB Approval Date: October 4, 2021.

OMB Expiration Date: October 31, 2024.

Title: 47 CFR Section 90.372, Dedicated Short-Range Communication (DSRC) Notification Requirement.

Form Number: N/A.

Respondents: Business or other for-profit, Not-for-profit institutions, Federal Government, and State, Local or Tribal Government.

Number of Respondents and Responses: 125 respondents; 125 responses.

Estimated Time per Response: 2 hours.

Frequency of Response: Recordkeeping requirement; on occasion and one-time reporting requirements.

Obligation to Respond: Required to obtain or retain benefits. The statutory authority for this information collection is contained in sections 309 and 316 of the Communications Act of 1934, as amended, 47 U.S.C. 309 and 316.

Total Annual Burden: 250 hours.

Total Annual Cost: $62,500.

Nature and Extent of Confidentiality: No information is requested that would require assurance of confidentiality.

Privacy Act Impact Assessment: No impact(s).

Needs and Uses: On November 20, 2020, the Federal Communications Commission released a First Report and Order, Further Notice of Proposed Rulemaking (FNPRM), and Order of Proposed Modification, Use of the 5.850-5.925 GHz Band, ET Docket No. 19-138. Among other things, the Commission repurposed 45 megahertz of the 5.850-5.925 GHz band (the 5.9 GHz band), specifically the spectrum from 5.850-5.895 GHz, to allow for the expansion of unlicensed operations into the sub-band. At the same time, the Commission recognized that the 5.9 GHz band plays an important role in supporting intelligent transportation system (ITS) operations, and therefore continued to dedicate 30 megahertz of the 5.9 GHz band, specifically the sub-band from 5.895-5.925 GHz, for use by the ITS radio service. In addition, to promote the most efficient and effective use of the remaining ITS spectrum, the Commission will require ITS operations in the 5.895-5.925 GHz sub-band to transition from the current technology, Dedicated Short-Range Communications (DSRC), to the emerging Cellular Vehicle-to-Everything (C-V2X)-based technology by the end of a transition period to be decided following action on the FNPRM (86 FR 23323, May 3, 2021).

The provisions in 47 CFR 90.372 require DSRC licensees to notify the Commission that they have ceased operations in the 5.850-5.895 GHz sub-band.

Federal Communications Commission.
Katura Jackson,
Federal Register Liaison Officer.

[FR Doc. 2021-23148 Filed 10-22-21; 8:45 am]

BILLING CODE 6712-01-P